DEPARTMENT OF THE INTERIOR

Bureau of Land Management

[LLNMP00000 L13100000.PP0000 234L1109AF]

Notice of Public Meeting, Southern New Mexico Resource Advisory Council, New Mexico

AGENCY: Bureau of Land Management, Interior.

ACTION: Notice of public meeting.

SUMMARY: In accordance with the Federal Land Policy and Management Act of 1976, as amended, and the Federal Advisory Committee Act of 1972, the U.S. Department of the Interior, Bureau of Land Management's (BLM) Southern New Mexico Resource Advisory Council (RAC) will meet as indicated below.

DATES: The RAC is scheduled to host an in-person meeting, with a virtual participation option, on Wednesday, June 14, 2023, from 8 a.m. to 12 p.m. Mountain Time at the Inn of the Mountain Gods Resort. This meeting will be followed by an afternoon field tour from 1 to 4 p.m. of the Fort Stanton-Snowy River Cave National Conservation Area Headquarters. The meeting and field tour are open to the public.

ADDRESSES: Attendees for the morning business meeting should meet at the Inn of the Mountain Gods Resort, 287 Carrizo Canyon Road, Mescalaro, NM 88340 at 8 a.m. on Wednesday, June 14, 2023. Attendees for the afternoon field tour should meet at the Fort Stanton-Snowy River Cave National Conservation Area Headquarters, 111 BlackJack Pershing, Ft. Stanton, NM 88323 at 1 p.m. A virtual participation option is available on the Zoom Webinar platform. To register, go to: https://blm.zoomgov.com/webinar/register/WN_Fl4cFzZlSD-rGSK1uTHEFA.

Written comments pertaining to the meeting may be filed in advance of the meeting using the BLM address listed in the FOR FURTHER INFORMATION CONTACT section of this notice. Please include “RAC Comment” in your submission.

FOR FURTHER INFORMATION CONTACT: William Wight, BLM Las Cruces District Office, 1800 Marquess Street, Las Cruces, New Mexico 88005; (575) 525-4300. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The chartered 12-member Southern New Mexico RAC advises the Secretary of the Interior, through the BLM, on a variety of planning and management issues associated with public land management in its area of jurisdiction.

Planned meeting agenda items include: a U.S. Forest Service synopsis of proposed recreation fee increases; BLM Las Cruces District future recreation fee increase proposal; and BLM Pecos District recreation fee increase proposal (no vote being taken). At 11:00 a.m., there will be a 15-minute public comment period to be followed by a formal vote on the Federal Land Recreation Enhancement Act fee proposals for the U.S. Forest Service presented at the last meeting.

The agenda is subject to change and will be posted 7 days in advance of the meeting on the RAC's web page at https://www.blm.gov/get-involved/resource-advisory-council/near-you/new-mexico/northern-rac.

All Southern New Mexico RAC field tours and meetings are open to the public.

All attendees will be responsible for their own transportation and meals. Members of the public wishing to attend should notify the person listed in the FOR FURTHER INFORMATION CONTACT section of this notice at least two weeks in advance so that the Bureau can ensure compliance with Federal and State of New Mexico large group guidance.

Public Comment Procedures

The BLM welcomes comments from all interested parties. There will be a 15-minute public comment period during the June 14 meeting starting at 11 a.m. for any interested members of the public who wish to publicly address the Southern New Mexico RAC. Depending on the number of persons wishing to speak, the time for individual comments may be limited. For those providing written comments, before including your address, phone number, email address, or other personal identifying information in your comment, you should be aware that your entire comment—including your personal identifying information—may be made publicly available at any time. While you can ask us in your comment to withhold your personal identifying information from public review, we cannot guarantee that we will be able to do so.

Meeting Accessibility/Special Accommodations: Please make requests in advance for sign language interpreter services, assistive listening devices, or other reasonable accommodations. We ask that you contact the person listed in the FOR FURTHER INFORMATION CONTACT section of this notice at least 7 business days prior to the meeting to give the Department of the Interior sufficient time to process your request. All reasonable accommodation requests are managed on a case-by-case basis.

Detailed meeting minutes for the Southern New Mexico RAC will be maintained in the Las Cruces District Office listed in the FOR FURTHER INFORMATION CONTACT section of this notice. The meeting minutes will be available for public inspection and reproduction during regular business hours within 30 days following the meeting. Minutes will also be posted on the RAC's web page at: https://www.blm.gov/get-involved/resource-advisory-council/near-you/new-mexico/southern-rac.

Authority: 5 U.S.C. Ch. 10.

James Stovall,
BLM Pecos District Manager.

[FR Doc. 2023-10762 Filed 5-18-23; 8:45 am]

BILLING CODE 4331-23-P